GENERAL ACCOUNTING OFFICE

Commercial Activities Panel

AGENCY: General Accounting Office.

ACTION: Notice and request for comments.

SUMMARY: Section 832 of the National Defense Authorization Act for Fiscal Year 2001 requires the Comptroller General to convene a panel of experts to study the transfer of commercial activities currently performed by government employees to federal contractors, a procedure commonly known as “contracting out” or “outsourcing.” Selection of panel members is proceeding, and the formation of the panel will be announced in a subsequent Federal Register notice. To ensure that the panel considers the full array of possible issues and a wide range of views, this notice seeks public input on issues the panel should address. This notice also seeks reference to or copies of written materials on topics related to outsourcing. The General Accounting Office encourages input from all interested parties, including federal government agencies, federal employees or their representatives, industry groups, labor unions, and individuals. All submissions received will be reviewed for consideration by the panel. The authorization act requires the Comptroller General to submit the panel's report to Congress by May 1, 2002.

DATES: Submit comments and submissions on or before May 7, 2001.

ADDRESSES: Submit comments electronically to GAO at: A76panel@gao.gov. Send comments and submissions to the General Accounting Office, Office of General Counsel, Room 7476, 441 G St. NW., Washington, DC 20548, Attention: William T. Woods. See SUPPLEMENTARY INFORMATION for other information about electronic filing.

FOR FURTHER INFORMATION CONTACT: William T. Woods, Project Director, (202) 512-8214; E-mail: woodsw@gao.gov.

SUPPLEMENTARY INFORMATION: Section 832 of the Floyd D. Spence National Defense Authorization Act for Fiscal Year 2001, Public Law 106-398, Oct. 30, 2000, directs the Comptroller General of the United States to convene a panel of experts to study the policies and procedures governing the transfer of commercial activities for the federal government from government personnel to a federal contractor. The panel's study is to include a review of: (1) Procedures for determining whether functions should continue to be performed by government personnel; (2) procedures for comparing the costs of performing functions by government personnel with the costs of performing those functions by federal contractors; (3) implementation by the Department of Defense of the Federal Activities Inventory Reform Act of 1998 (Pub. L. 105-270, 112 Stat. 2382, 31 U.S.C. 501 note); and (4) procedures of the Department of Defense for public-private competitions under Office of Management and Budget Circular A-76. By May 1, 2002, the Comptroller General must submit to Congress a report of the panel on the results of the study, including recommended changes with regard to implementing policies and enactment of legislation.

The Act requires the Comptroller General or a person within GAO designated by him to serve as the panel's chairman. The Comptroller General must appoint highly qualified and knowledgeable persons to serve on the panel and must ensure that the following entities receive fair representation on the panel: (1) The Department of Defense; (2) persons in private industry; (3) federal labor organizations; and (4) the Office of Management and Budget.

The General Accounting Office is in the process of forming a panel to conduct the study. The GAO issued a Federal Register notice on December 1, 2000, 65 FR 75288, inviting the public to submit suggestions on the composition of the panel. The GAO invited interested parties to submit suggestions on who should serve on the panel, specific agencies and organizations that should be represented, and the qualifications of panel members. In response to this notice, the GAO received a variety of comments on the composition of the panel, as well as numerous nominations of individuals to serve on the panel. The Comptroller General is in the process of reviewing these comments and nominations. Formation of the panel will be announced in a subsequent Federal Register notice.

In preparing for the panel's discussions, the GAO is asking now for input from interested parties, including federal government agencies, federal employees or their representatives, industry groups, labor unions, and individuals. At this time, the GAO is seeking comments identifying significant sourcing issues, as well as references to or copies of written materials related to these issues, including: (1) Determining which functions should be performed by the government and which functions are potential candidates for outsourcing; (2) options, mechanisms, and best practices for determining how commercial activities should be performed; and (3) issues involving Office of Management and Budget Circular A-76. GAO invites submission of comments, articles, and publications on these issues or other key topics the panel should address. As the panel proceeds with its work, it will solicit public comments on relevant issues through a variety of means, including public hearings.

Electronic Access and Filing

This notice is available on GAO's website at http://www.gao.gov under “Commercial Activities Panel.” Comments and suggestions on the issues that should be addressed and references to or copies of written materials may be submitted by sending either an E-mail to A76panel@gao.gov or a hard copy to the General Accounting Office, Office of General Counsel, Room 7476, 441 G St. NW., Washington, DC 20548, Attention: William T. Woods.

Jack L. Brock, Jr.,
Managing Director, Acquisition and Sourcing Management, General Accounting Office.

[FR Doc. 01-7238 Filed 3-22-01; 8:45 am]

BILLING CODE 1610-02-P